OFFICE OF PERSONNEL MANAGEMENT

Submission for Review: Election Regarding Payment of Health and/or Life Insurance Premiums (Negative Net Annuity), RI 79-31, 3206-XXXX

AGENCY: U.S. Office of Personnel Management.

ACTION: 60-day notice and request for comments.

SUMMARY: The Retirement Services, Office of Personnel Management (OPM) offers the general public and other Federal agencies the opportunity to comment on a new information collection, Election Regarding Payment of Health and/or Life Insurance Premiums (Negative Net Annuity), RI 79-31. As required by the Paperwork Reduction Act of 1995, (Pub. L. 104-13, 44 U.S.C. chapter 35) as amended by the Clinger-Cohen Act (Pub. L. 104-106), OPM is soliciting comments for this collection.

DATES: Comments are encouraged and will be accepted until June 12, 2015. This process is conducted in accordance with 5 CFR 1320.1.

ADDRESSES: Interested persons are invited to submit written comments on the proposed information collection to the U.S. Office of Personnel Management, Retirement Services, 1900 E. Street NW., Room 2349, Washington, DC 20415-3500, Attention: Alberta Butler, or sent by email to Alberta.Butler@opm.gov.

FOR FURTHER INFORMATION CONTACT: A copy of this ICR, with applicable supporting documentation, may be obtained by contacting the Retirement Services Publications Team, Office of Personnel Management, 1900 E. Street NW., Room 3316-AC, Washington, DC 20503, Attention: Cyrus S. Benson or sent by email to Cyrus.Benson@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title 5, U.S. Code, chapter 84, section 8905a, and chapter 87, section 8707 provides that the proper amount of health benefit and life insurance premiums are withheld from the annuity of retirees, survivors, and former spouses. There are instances when annuity is insufficient to withhold the cost of premiums. Title 5, Code of Federal Regulations, part 890.304(b) provide instructions for annuitants and survivors to elect a health plan with a withholding that is not in excess of the annuity. It informs individuals or their rights in the event an election is not made within a time limit. Title 5, Code of Federal Regulations part 890.806(m) addresses actions required by former spouses. Individuals have an option to elect a less expensive plan or to make direct payments. Form RI 79-31 is needed to provide the individual with an opportunity to choose a less costly plan for which deductions can be withheld from the payment from the Civil Service Retirement and Disability Fund, or to be advised of their option to make direct out-of pocket payment to the retirement fund.

The appropriate regulations for making life insurance elections that do not exceed annuity or to make direct payment to the retirement fund are found in title 5, Code of Federal Regulations, part 870-401—870-405.

This form is a combination of two forms. Rather than collect information separately, the RI 79-31 is combined to collect election decisions on health and life insurance coverage.

Analysis

Agency: Retirement Operations, Retirement Services, Office of Personnel Management.

Title: Election Regarding Payment of Health and/or Life Insurance Premiums (Negative Net Annuity).

OMB Number: 3206-XXXX.

Frequency: On occasion.

Affected Public: Individuals or households.

Number of Respondents: 1,000.

Estimated Time per Respondent: 20 minutes.

Total Burden Hours: 333 hours.

U.S. Office of Personnel Management.
Katherine Archuleta,
Director.

[FR Doc. 2015-08460 Filed 4-10-15; 8:45 am]

BILLING CODE 6325-38-P